DEPARTMENT OF HOMELAND SECURITY

Federal Emergency Management Agency

Agency Information Collection Activities: Submission for OMB Review; Comment Request

AGENCY: Federal Emergency Management Agency, DHS.

ACTION: Notice; 30-day notice and request for comments; Extension of a currently approved collection 1660-0025, Standard Forms: SF-LLL, SF-424, SF-270, FEMA Forms: 20-10, 20-15, 20-16A, 20-16B, 20-16C, 20-17, 20-18, 20-19, 20-20, and 76-10A.

SUPPLEMENTARY INFORMATION: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: FEMA Grant Administration Forms.

OMB Number: 1660-0025.

Abstract: This collection of information focuses on the standardization and consistent use of standard and FEMA forms associated with grantees requests for disaster and non-disaster Federal assistance, submission of financial and administrative reporting and record keeping. The use of the forms will minimize burden on the respondent and enable FEMA to continue to improve in its grants administration practices. The forms are used to administer the following FEMA grant programs.

National Urban Search and Rescue (US&R) Response System—To develop an immediately deployable, national response capability to locate and extricate, and medically stabilize victims of structural collapse during a disaster, while simultaneously enhancing the US&R response capabilities of State and local governments.

Community Assistance Program—State Support Services Element (CAP-SSSE)—To ensure that communities participating in the National Flood Insurance Program (NFIP) are achieving flood loss reduction measures consistent with program direction. The CAP-SSSE is intended to identify, prevent and resolve floodplain management issues in participating communities before they develop into problems requiring enforcement action.

Chemical Stockpile Emergency Preparedness Program (CSEPP)—To enhance emergency preparedness capabilities of the States and local communities at each of the eight chemical agent stockpile storage facilities. The purpose of the program is to assist States and local communities in efforts to improve their capacity to plan for and respond to accidents associated with the storage and ultimate disposal of chemical warfare materials.

National Dam Safety Program (NDSP)—To encourage the establishment and maintenance of effective State programs intended to ensure dam safety, to protect human life and property, and to improve State dam safety programs.

Interoperable Communications Equipment (ICE)—To provide funding to jurisdictions across the nation for demonstration projects on uses of equipment and technologies to increase communications interoperability among the fire service, law enforcement, and emergency medical service communities. These projects will illustrate and encourage the acceptance of new technologies and operating methods to assist communities in achieving interoperability.

Earthquake Consortium (EqC)—To operate a program of grants and assistance to enable States to develop mitigation, preparedness and response plans prepare inventories and conduct seismic safety inspection of critical structures and lifelines, update building and zoning codes and ordinances to enhance seismic safety, increase earthquake awareness and education, and encourage the development of multi-State groups for such purposes.

Disaster Donations Management Program (AIDMATRIX)—To distribute technology solutions to State and local government and voluntary agencies throughout the country prior, to a major event, through the Aidmatrix Foundation/FEMA partnership. This will allow end-users to incorporate technology solutions into their planning, increasing their capacity to respond quickly and effectively once a disaster occurs.

Alternative Housing Pilot Program (AHPP)—Evaluate the efficacy of non-traditional short and intermediate-term housing alternatives for potential future use in a catastrophic disaster environment. Identify, develop and evaluate alternatives to and alternative forms of FEMA Disaster Housing to assist victims of the 2005 hurricanes in the Gulf Coast.

Cooperating Technical Partners (CTP)—To increase local involvement in, and ownership of, the development and maintenance of flood hazard maps produced for the National Flood Insurance Program (NFIP).

Map Modernization Management Support (MMMS)—To increase local involvement in, and ownership of, management of the development and maintenance of flood hazard maps produced for the National Flood Insurance.

New Repetitive Flood Claims (RFC)—The Repetitive Flood Claims (RFC) Program was authorized in 2004 under Public Law 108-264, funds were not appropriated until FY 2006. The RFC program is authorized under the NFIA to award grants for actions that reduce flood damages to individual properties for which one or more claim payments for losses have been made. FEMA is not required to publish regulations; however, FEMA will provide notice to eligible applicants, post notice on OMB's Grants.gov Web site, and post the RFC program guidance on its Web site at http://www.fema.gov.

Flood Mitigation Assistance (FMA)—To assist States and communities in implementing measures to reduce or eliminate the long-term risk of flood damage to buildings, manufactured homes, and other structures insurable under the National Flood Insurance Program (NFIP).

Pre-Disaster Mitigation (PDM)—To provide States and communities with a much needed source of pre-disaster mitigation funding for cost-effective hazard mitigation activities that are part of a comprehensive mitigation program, and that reduce injuries, loss of life, and damage and destruction of property. Competitive grants are part of this program including grants to universities.

Assistance to Firefighters Grant (AFG)—To provide direct assistance, on a competitive basis, to fire departments of a State or tribal nation for the purpose of protecting the health and safety of the public and firefighting personnel against fire and fire-related hazards.

Staffing for Adequate Fire and Emergency Response (SAFER)—To increase the number of firefighters in local communities and to help them meet industry minimum standards and attain 24/7 staffing for adequate protection against fire and fire-related hazards, and fulfill related roles associated with fire departments.

Disaster Programs

Public Assistance Grants (PA)—To provide supplemental assistance to States, local governments, and political subdivisions to the State, Indian Tribes, Alaskan Native Villages, and certain nonprofit organizations in alleviating suffering and hardship resulting from major disasters or emergencies declared by the President.

Crisis Counseling (SCC)—To provide immediate crisis counseling services, when required, to victims of a major Federally-declared disaster for the purpose of relieving mental health problems caused or aggravated by a major disaster or its aftermath.

Presidential Declared Disaster Assistance to Individuals and Households—Other Needs (ONA)—To provide assistance to individuals and households affected by a disaster or emergency declared by the President, and enable them to address necessary expenses and serious needs, which cannot be met through other forms of disaster assistance or through other means such as insurance.

Hazard Mitigation Grant Program (HMGP)—To provide States and local governments' financial assistance to implement measures that will permanently reduce or eliminate future damages and losses from natural hazards through safer building practices and improving existing structures and supporting infrastructure.

Fire Management Assistance Grant (FMAGP)—To provide grants to States, Indian tribal government and local governments for the mitigation, management and control of any fire burning on publicly (nonfederal) or privately owned forest or grassland that threatens such destruction as would constitute a major disaster.

Affected Public: State, local, and tribal government.

Number of Respondents: 56.

Estimated Time per Respondent: 38,408.66.

Estimated Total Annual Burden Hours: 2,150,885.

Frequency of Response: On Occasion.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before June 12, 2008.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Dated: April 28, 2008.
John A. Sharetts-Sullivan,
Director, Records Management Division, Office of Management, Federal Emergency Management Agency, Department of Homeland Security,

[FR Doc. E8-10580 Filed 5-12-08; 8:45 am]

BILLING CODE 9110-49-P